ENVIRONMENTAL PROTECTION AGENCY

[ER-FRL-9043-2]

Environmental Impact Statements; Notice of Availability

Responsible Agency: Office of Federal Activities, General Information 202-564-5632 or https://www.epa.gov/nepa/.

Receipt of Environmental Impact Statements

Filed 12/21/2018 Through 01/25/2019

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180325, Final, USFS, WA, Sunrise Vegetation and Fuels Management, Review Period Ends: 03/04/2019, Contact: Johnny Collin 509-843-4643

EIS No. 20180326, Draft Supplement, BR, CA, Long-Term Water Transfers, Comment Period Ends: 03/18/2019, Contact: Dan Cordova 916-987-5483

EIS No. 20180327, Final, TxDOT, TX, Oakhill Parkway, Contact: Carlos Swonke 512-416-2734

Under 23 U.S.C. 139(n)(2), TxDOT has issued a single document that consists of a supplemental final environmental impact statement and record of decision. Therefore, the 30-day wait/review period under NEPA does not apply to this action.

EIS No. 20180328, Draft, HUD, CT, Resilient Bridgeport, Comment Period Ends: 03/18/2019, Contact: Rebecca French 860-270-8231

EIS No. 20180329, Draft, USACE, CA, Amoruso Ranch, Comment Period Ends: 03/18/2019, Contact: Leah M. Fisher 916-557-6639

EIS No. 20180330, Draft, FHWA, LA, Lafayette Regional Xpressway Tier 1, Comment Period Ends: 03/18/2019, Contact: Todd Jeter 225-757-7612

EIS No. 20180331, Final, FERC, LA, Driftwood LNG Project, Review Period Ends: 03/04/2019, Contact: Office of External Affairs 866-208-3372

EIS No. 20180332, Final, FERC, CA, Yuba River Development Project, Review Period Ends: 03/04/2019, Contact: Alan Mitchnick 202-502-6074

EIS No. 20180333, Final, FERC, OR, Swan Lake North Pumped Storage Project, Review Period Ends: 03/04/2019, Contact: Office of External Affairs 866-208-3372

EIS No. 20180334, Final, FERC, NY, Northeast Supply Enhancement Project, Review Period Ends: 03/04/2019, Contact: Office of External Affairs 866-208-3372

EIS No. 20180335, Draft Supplement, USN, GU, Mariana Islands Training and Testing Draft Supplemental Environmental Impact Statement/Overseas Environmental Impact Statement, Comment Period Ends: 03/18/2019, Contact: Nora Macariola-See 808-472-1402

EIS No. 20180336, Draft, FHWA, NY, Van Wyck Expressway Capacity and Access Improvements to JFK Airport, Comment Period Ends: 03/18/2019, Contact: Hans Anker 518-431-8896

Amended Notices

EIS No. 20180282, Final, USACE, IL, The Great Lakes and Mississippi River Interbasin Study—Brandon Road Integrated Feasibility Study and Environmental Impact Statement—Will County, Illinois, Review Period Ends: 02/22/2019, Contact: Andrew Leichty 309-794-5399. Revision to FR Notice Published 12/21/2018; Extending the Comment Period from 01/07/2019 to 02/22/2019.

Dated: January 29, 2019.
Robert Tomiak,
Director, Office of Federal Activities.

[FR Doc. 2019-00664 Filed 1-31-19; 8:45 am]

BILLING CODE 6560-50-P